DEPARTMENT OF ENERGY

Federal Energy Regulatory Commission

[Docket No. RP04-274-005]

Kern River Gas Transmission Company; Notice of Tariff Filing

November 2, 2004.

Take notice that on October 25, 2004, Kern River Gas Transmission Company (Kern River) tendered for filing as part of its FERC Gas Tariff, Second Revised Volume No. 1, the following tariff sheets:

Effective November 1, 2004

Second Substitute Ninth Revised Sheet No. 5-A

Effective January 1, 2005

Second Substitute Tenth Revised Sheet No. 5-A

Kern River States that the purpose of this filing is to make a correction to the footnote on Sheet No. 5-A that sets forth the electric compressor fuel surcharges applicable to shippers receiving incremental rate service on Kern River's 2003 expansion project.

Kern River states that it has served a copy of this filing upon each person designated on the official service list compiled by the Secretary in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-3096 Filed 11-9-04; 8:45 am]

BILLING CODE 6717-01-P